DEPARTMENT OF ENERGY

Federal Energy Regulatory Commission

[Docket No. CP08-032-000]

Natural Gas Pipeline Company of America; Notice of Intent To Prepare an Environmental Assessment for the Proposed Herscher-Galesville Expansion Project and Request for Comments on Environmental Issues

January 25, 2008.

The staff of the Federal Energy Regulatory Commission (FERC or Commission) will prepare an environmental assessment (EA) that will discuss the environmental impacts of the Herscher-Galesville Expansion Project involving construction and operation of facilities by Natural Gas Pipeline Company of America (Natural) in Kankakee County, Illinois.¹ These facilities would consist of new water withdrawal wells, new and extended water disposal wells, new water pipelines, one new compressor station addition, and extension of five existing natural gas injection/withdrawal wells. This EA will be used by the Commission in its decision-making process to determine whether the project is in the public convenience and necessity.

¹ Natural's application was filed with the Commission under section 7 of the Natural Gas Act and part 157 of the Commission's regulations.

This notice announces the opening of the scoping process the Commission will use to gather input from the public and interested agencies on the project. Your input will help determine which issues need to be evaluated in the EA. Please note that the scoping period will close on February 4, 2008. Details on how to submit comments are provided in the Public Participation section of this notice.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Natural provided to landowners. This fact sheet addresses a number of typically asked questions, including the use of eminent domain and how to participate in the Commission's proceedings. It is available for viewing on the FERC Internet Web site (http://www.ferc.gov).

Summary of the Proposed Project

Natural proposes to add new and modify existing natural gas storage facilities, and add new compression, at its existing Herscher Gas Storage Field near the town of Herscher, Illinois. The purpose of this project is to increase the storage field's working gas capacity by 10 billion cubic feet and increase the peak day withdrawal capacity. Natural would achieve this increased capacity by constructing facilities to remove water from the Galesville formation part of the storage field. Reworking of five existing withdrawal/injection wells, and construction of the new compressor station addition within its existing adjacent Compressor Station 201, would enable Natural to increase peak day withdrawal capacity. Natural proposes to:

• Install 15 new water withdrawal wells with pumps;

• Install 11 new water disposal wells;

• Install five water booster pumps at existing water disposal wells;

• Conduct up to four lateral extensions at existing water disposal wells;

• Conduct workover/extensions on five existing natural gas injection/withdrawal wells;

• Replace, loop or extend 12 waterlines with 8 13-inch-diameter plastic pipe; and

• Construct a new 8,180 horsepower (hp) gas-fired engine compressor station addition.

Natural requests certification by July 1, 2008, and expects to have the new water wells and associated water lines in service by April 1, 2009, followed by compressor services in September of 2009.

The location of the project facilities is shown in Appendix 1.²

² The appendices referenced in this notice are not being printed in the Federal Register. Copies of all appendices, other than Appendix 1 (maps), are available on the Commission's website at the “eLibrary” link or from the Commission's Public Reference Room, 888 First Street, NE., Washington, DC 20426, or call (202) 502-8371. For instructions on connecting to eLibrary refer to the last page of this notice. Copies of the appendices were sent to all those receiving this notice in the mail.

Land Requirements for Construction

Construction of the proposed facilities would require disturbance of 125 acres of land widely scattered around the western, southern and eastern outskirts of the Town of Herscher. This includes 107 acres under construction right-of-way that would be restored to previous land use following construction, and 18 acres under new permanent easement or ownership.

Natural would use eight existing well pads and 11 new well pads as staging for horizontal directionally-drilling (HDD) 15 new water withdrawal wells and 11 new disposal wells (11.3 acres of construction work area). Natural would use the HDD method for the four lateral extensions of water disposal wells, staged from existing well pad sites (0.9 acres of construction work area). Extension of the five natural gas injection/withdrawal wells would be performed at existing well sites (1.2 acres of construction work area). Natural would construct three new booster pumps at three existing water disposal wells (1.4 acres of construction work area).

Natural would require virtually the entire 83-acre Compressor Station 201 property as construction work areas, including staging, for installation of the compressor station facility additions. Natural plans to use a 50-foot-wide construction right-of-way for installation of the waterlines, and would retain the full 50 feet as permanent right-of-way for operation. This right-of-way would occur as looping, replacement, or along new alignments, and would require 27 acres of construction work area.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ³ will discuss impacts that could occur as a result of the construction and operation of the proposed project under these general headings:

³ “We”, “us”, and “our” refer to the environmental staff of the Office of Energy Projects (OEP).

• Geology and soils;

• Water resources;

• Wetlands and fisheries;

• Vegetation and wildlife;

• Threatened and endangered species;

• Land use;

• Cultural resources;

• Air quality and noise;

• Reliability and safety; and

• Cumulative impacts.

We will also evaluate reasonable alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: Kimberly D. Bose, Secretary, Federal Energy Regulatory Commission, 888 First St., NE., Room 1A, Washington, DC 20426.

• Label one copy of the comments for the attention of Gas 2.

• Reference Docket No. CP08-032-000.

• Mail your comments so that they will be received in Washington, DC on or before February 25, 2008.

The Commission encourages electronic filing of comments. See 18 Code of Federal Regulations 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

As described above, we may publish and distribute the EA for comment. If you are interested in receiving an EA for review and/or comment, please return the Environmental Mailing List Form (Appendix 3). If you do not return the Environmental Mailing List Form, you will be taken off the mailing list.

Becoming an Intervenor

In addition to involvement in the EA scoping process, you may want to become an official party to the proceeding, or “intervenor”. To become an intervenor you must file a motion to intervene according to Rule 214 of the Commission's Rules of Practice and Procedure (18 CFR 385.214). Intervenors have the right to seek rehearing of the Commission's decision. Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with e-mail addresses may be served electronically; others must be served a hard copy of the filing.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in Appendix 2, to express their interest in becoming cooperating agencies for the preparation of the EA.

Additional Information

Additional information about the project is available from the Commission's Office of External Affairs, at 1-866-208-FERC (3372) or on the FERC Internet Web site (http://www.ferc.gov) using the eLibrary link. Click on the eLibrary link, click on “General Search” and enter the docket number excluding the last three digits (i.e., enter PF06-398) in the Docket Number field. Be sure you have selected an appropriate date range. For assistance, please contact FERC Online Support at FERCOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Kimberly D. Bose,
Secretary.

[FR Doc. E8-1737 Filed 1-30-08; 8:45 am]

BILLING CODE 6717-01-P